DEPARTMENT OF THE INTERIOR

National Park Service

Notice To Prepare a Revised Draft EIS

AGENCY: National Park Service, Interior.

ACTION: Notice to prepare a Revised Draft Backcountry Management Plan, General Management Plan Amendment and Environmental Impact Statement for Denali National Park and Preserve.

SUMMARY: The National Park Service (NPS) announces its intent to prepare a Revised Draft Backcountry Management Plan, General Management Plan Amendment and Environmental Impact Statement (EIS) for Denali National Park and Preserve. The Revised Draft EIS will evaluate four new action alternatives in addition to the no-action alternative which will replace the four action alternatives included in the February 2003 Draft Backcountry Management Plan and EIS (Federal Register, 68 FR 8782, 2003). The NPS decision to revise the plan is in response to public comment on the February 2003 draft which indicated the need for revised management area descriptions and additional actions. The Revised Draft Backcountry Management Plan and EIS will be available in Fall 2004.

FOR FURTHER INFORMATION CONTACT: Mike Tranel, Chief of Planning, Denali National Park and Preserve. Telephone: (907) 644-3611.

SUPPLEMENTARY INFORMATION: The National Park Service (NPS) is preparing a backcountry management plan and EIS that will amend the 1986 General Management Plan for Denali National Park and Preserve. The purpose of the plan and EIS is to formulate a comprehensive plan for the backcountry of Denali National Park and Preserve, including designated wilderness that will provide management direction over the next 15-20 years. The backcountry of Denali National Park and Preserve is defined to include the entire park except for those areas designated specifically for development in the entrance area and along the road corridor. The NPS initiated this backcountry management plan EIS (Federal Register, 64 FR 49503, 1999) to address the rapidly growing level and diversity of uses, resource management needs, and the anticipated demand for future uses not foreseen or addressed in the 1986 General Management Plan. In the February 2003 Draft Plan and EIS, the NPS presented a range of four action alternatives based on planning objectives, park resources, and public input which described actions related to management area designation, recreational activities, and administrative activities.

The Revised Draft Plan and EIS will present four new action alternatives that respond to public comment on the February 2003 Draft Backcountry Management Plan and EIS. The revised alternatives will broaden the range of potential actions, clarify the descriptions of management areas, and describe methodologies for managing access to the park and preserve. It will also refine other actions described in the draft plan in response to substantive comments related to guided activities and commercial services, facilities, and administration.

Ralph Tingey,
Acting Regional Director, Alaska.

[FR Doc. 04-16993 Filed 7-26-04; 8:45 am]

BILLING CODE 4312-HT-P